DEPARTMENT OF TRANSPORTATION

Federal Highway Administration

[Docket No. FHWA-2012-0053]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We published a Federal Register Notice with a 60-day public comment period on this information collection on March 28, 2012. We are required to publish this notice in the Federal Register by the Paperwork Reduction Act of 1995.

DATES: Please submit comments by July 20, 2012.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2012-0053.

FOR FURTHER INFORMATION CONTACT: Mark Ferroni, 202-366-9237, Office of Natural Environment, Federal Highway Administration, Department of Transportation, 1200 New Jersey Avenue SE., Washington, DC 20590. Office hours are from 8 a.m. to 5 p.m., Monday through Friday, except Federal holidays.

SUPPLEMENTARY INFORMATION: Title: FHWA Traffic Noise Model Version 3.0 Beta-Tester Information.

Background: Prior to the release of the Federal Highway Administration Traffic Noise Model (FHWA TNM), the FHWA Highway Traffic Noise Prediction Model (FHWA-RD-77-108), or “108 model,” was in use for over 20 years. Although an effective model for its time, the “108 model” was comprised of acoustic algorithms, computer architecture, and source code that dated to the 1970s. Since that time, significant advancements have been made in the methodology and technology for noise prediction, barrier analysis and design, and computer software design and coding. Given the fact that over $500 million were spent on barrier design and construction between 1970 and 1990, the FHWA identified the need to design, develop, test, and document a state-of-the-art highway traffic noise prediction model that utilized these advancements. This need for a new traffic noise prediction model resulted in the FHWA TNM.

In March 1998, the FHWA released the FHWA TNM Version 1.0. It was developed as a means for aiding compliance with policies and procedures under FHWA regulations. Since its release in March 1998, Version 1.0a was released in March 1999, Version 1.0b in August 1999, Version 1.1 in September 2000, Version 2.0 in June 2002, Version 2.1 in March 2003 and the current version, Version 2.5 was released in April 2004.

The FHWA is currently developing the TNM version 3.0, with anticipated beta-testing of this version towards the end of 2012. Version 3.0 is an entirely new, state-of-the-art computer program used for predicting noise impacts in the vicinity of highways. It uses advances in personal computer hardware and software to improve upon the accuracy and ease of modeling highway noise, including the design of effective, cost-efficient highway noise barriers. This information request is to gather information from the beta-testers on their computer configurations, their experiences using the FHWA TNM and the availability of TNM files.

Respondents: Approximately 25 entities.

Frequency: Once.

Estimated Average Burden per Response: Approximately 15 minutes.

Estimated Total Annual Burden Hours: Approximately 6.25 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: June 7, 2012.
Steve Smith,
Chief, Information Technology Division.

[FR Doc. 2012-15084 Filed 6-19-12; 8:45 am]

BILLING CODE 4910-22-P